INTERNATIONAL TRADE COMMISSION

[Investigation Nos. 701-TA-417-421 and 731-TA-953-963 (Preliminary), (Remand as to Egypt, South Africa and Venezuela)]

Carbon and Certain Alloy Steel Wire Rod From Brazil, Canada, Mexico, Moldova, South Africa, Ukraine and Venezuela, Trinidad and Tobago, Turkey, Taiwan; Notice and Scheduling of Remand Proceedings

AGENCY: United States International Trade Commission.

ACTION: Notice.

SUMMARY: The U. S. International Trade Commission (the Commission) hereby gives notice of the court-ordered remand of its preliminary antidumping investigations Nos. 731-TA-955, 960 and 963 (Preliminary).

EFFECTIVE DATE: July 3, 2002.

FOR FURTHER INFORMATION CONTACT: Mary Messer, Office of Investigations, telephone 202-205-3193 or Karen V. Driscoll, Office of General Counsel, telephone 202-205-3092, U.S. International Trade Commission, 500 E St., SW., Washington, DC 20436. Hearing-impaired individuals are advised that information on this matter can be obtained by contacting the Commission's TDD terminal on 202-205-1810. General information concerning the Commission may also be obtained by accessing its Internet server (http://www.usitc.gov).

SUPPLEMENTARY INFORMATION:

Reopening Record

In October 2001, the Commission made negligibility determinations in antidumping investigations regarding wire rod imports from Egypt, South Africa and Venezuela, and terminated those investigations pursuant to statute. The Commission's determinations were appealed to the U.S. Court of International Trade (CIT). On June 20, 2002, the CIT issued an opinion requiring the Commission to reconsider its terminations given the modified scope of investigations issued by the Department of Commerce (“Commerce”) on April 10, 2002 ( 67 FR 17,384). The Commission was given until August 2, 2002, or 43 days, in which to comply with the Court's remand order and issue remand determinations.

In order to assist it in making its determinations on remand, the Commission is reopening the record on remand in these investigations to include in the record the modified scope issued by Commerce in April, 2002, and to obtain import data corresponding to that modified scope of investigations regarding subject wire rod imports from all sources. The record in these proceedings will encompass the material from the record of the original preliminary investigations, information and import data submitted to and gathered by Commission staff during the remand proceedings, and Commerce's modified April 10, 2002 scope (67 FR 17,384).

Participation in the Proceedings

Due to the strict time constraints in this remand proceeding, and the limited nature of the remand, only those parties to the original administrative proceedings may participate in the Commission's remand proceedings. No additional filings with the Commission will be necessary for these parties to participate in these remand proceedings.

Nature of the Remand Proceedings

On July 12, 2002, the Commission will make available to parties who may participate in the remand proceedings, information that has been gathered by or submitted to the Commission as part of these remand proceedings. Parties that are participating in the remand proceedings may file comments on or before July 16, 2002 on whether any new information received affects the Commission's negligibility determinations in these investigations. These comments should not exceed ten double-spaced typewritten pages.

All written submissions must conform with the provisions of section 201.8 of the Commission's rules; any submissions that contain business proprietary information (BPI) must also conform with the requirements of sections 201.6, 207.3, and 207.7 of the Commission's rules. The Commission's rules do not authorize filing of submissions with the Secretary by facsimile or electronic means. Each document filed by a party participating in the remand investigation must be served on all other parties who may participate in the remand investigation (as identified by either the public or BPI service list), and a certificate of service must be timely filed. The Secretary will not accept a document for filing without a certificate of service. Parties are also advised to consult the Commission's Rules of Practice and Procedure, part 201, subparts A through E (19 CFR part 201), and part 207, subpart A (19 CFR part 207) for provisions of general applicability concerning written submissions to the Commission.

Limited Disclosure of Business Proprietary Information (BPI) Under an Administrative Protective Order (APO) and BPI Service List

Information obtained during the remand investigation will be released to the above-referenced parties, as appropriate, under the administrative protective order (“APO”) in effect in the original investigation. A separate service list will be maintained by the Secretary for those parties authorized to receive BPI under the APO in this remand investigation.

Authority: This action is taken under the authority of the Tariff Act of 1930, title VII.

Issued: July 3, 2002.
By order of the Commission.
Marilyn R. Abbott,
Secretary.

[FR Doc. 02-17153 Filed 7-8-02; 8:45 am]

BILLING CODE 7020-02-P